DEPARTMENT OF COMMERCE

International Trade Administration

Request for Nominations for the Industry Trade Advisory Committees (ITACs)

AGENCY: International Trade Administration, Industry and Analysis.

ACTION: Request for nominations.

SUMMARY: This month, the Secretary of Commerce (the Secretary) and the United States Trade Representative (the USTR) are renewing the charters of the 16 Industry Trade Advisory Committees (ITACs) and the Committee of Chairs of the ITACs for a four-year term to expire in February 2018. The ITACs provide detailed policy and technical advice, information, and recommendations to the Secretary and the USTR regarding trade barriers, negotiation of trade agreements, and implementation of existing trade agreements affecting industry sectors; and perform other advisory functions relevant to U.S. trade policy matters as may be requested by the Secretary and the USTR or their designees. There are currently opportunities for membership on each ITAC. Nominations will be accepted for current vacancies and those that occur throughout the remainder of the charter term, which expires in February 2018.

DATES: Appointments will be made on a rolling basis. For that reason, nominations will be accepted through February 14, 2018.

ADDRESSES: Submit nominations to Ingrid V. Mitchem, Director, Industry Trade Advisory Center, U.S. Department of Commerce, 14th and Constitution Avenue NW., Room 4043, Washington, DC 20230.

FOR FURTHER INFORMATION CONTACT: Ingrid V. Mitchem, Director, Industry Trade Advisory Center, (202) 482-3268.

Recruitment information also is available on the International Trade Administration Web site at: www.trade.gov/itac.

SUPPLEMENTARY INFORMATION: Pursuant to the Federal Advisory Committee Act, as amended (5 U.S.C. App.) and section 135 of the Trade Act of 1974, as amended (19 U.S.C. 2155), the Secretary and the USTR have renewed the charters of 16 ITACs and the Committee of Chairs of the ITACs. The Secretary and the USTR welcome nominations for the ITACs listed below:

Industry Trade Advisory Committees on:

(ITAC 1) Aerospace Equipment

(ITAC 2) Automotive Equipment and Capital Goods

(ITAC 3) Chemicals, Pharmaceuticals, Health/Science Products and Services

(ITAC 4) Consumer Goods

(ITAC 5) Distribution Services

(ITAC 6) Energy and Energy Services

(ITAC 7) Forest Products

(ITAC 8) Information and Communications Technologies, Services, and Electronic Commerce

(ITAC 9) Building Materials, Construction, and Nonferrous Metals

(ITAC 10) Services and Finance Industries

(ITAC 11) Small and Minority Business

(ITAC 12) Steel

(ITAC 13) Textiles and Clothing

(ITAC 14) Customs Matters and Trade Facilitation

(ITAC 15) Intellectual Property Rights

(ITAC 16) Standards and Technical Trade Barriers

Background

Section 135 of the Trade Act of 1974, as amended (19 U.S.C. 2155), directed the establishment of a private-sector trade advisory system to ensure that U.S. trade policy and trade negotiation objectives adequately reflect U.S. commercial and economic interests. Section 135(a)(1) directs the President to:

seek information and advice from representative elements of the private sector and the non-Federal governmental sector with respect to—

(A) negotiating objectives and bargaining positions before entering into a trade agreement under [Subchapter I of the Trade Act of 1974 (19 U.S.C. 2111-2241) and section 2103 of the Bipartisan Trade Promotion Authority Act of 2002 (19 U.S.C. 3803)];

(B) the operation of any trade agreement once entered into, including preparation for dispute settlement panel proceedings to which the United States is a party; and

(C) other matters arising in connection with the development, implementation, and administration of the trade policy of the United States . . .

Section 135(c)(2) of the 1974 Trade Act provides that:

(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) consult with interested private organizations; and

(B) take into account such factors as—

(i) patterns of actual and potential competition between United States industry and agriculture and foreign enterprise in international trade,

(ii) the character of the nontariff barriers and other distortions affecting such competition,

(iii) the necessity for reasonable limits on the number of such advisory committees,

(iv) the necessity that each committee be reasonably limited in size, and

(v) in the case of each sectoral committee, that the product lines covered by each committee be reasonably related.

Pursuant to this provision, the Department of Commerce (Commerce) and the Office of the USTR (USTR) have established and co-administer 16 ITACs, the Committee of Chairs of the ITACs, and the Industry Trade Advisory Center.

Functions

The duties of the ITACs are to provide the President, through the Secretary and the USTR, with detailed policy and technical advice, information, and recommendations regarding trade barriers, negotiation of trade agreements, and implementation of existing trade agreements affecting industry sectors; and perform other advisory functions relevant to U.S. trade policy matters as may be requested by the Secretary and the USTR or their designees. The ITACs provide nonpartisan, industry input in the development of trade policy objectives. The ITACs' efforts have assisted the United States in putting forward unified positions when it negotiates trade agreements.

The ITACs address market-access problems; barriers to trade; tariff levels; discriminatory foreign procurement practices; and information, marketing, and advocacy needs of their industry sector. Thirteen ITACs provide advice and information on issues that affect specific sectors of U.S. industry. Three ITACs focus on cross-cutting, functional issues that affect all industry sectors: Customs matters and trade facilitation (ITAC 14); intellectual property rights (ITAC 15); and standards and technical trade barriers (ITAC 16). In addition to members appointed exclusively to these three ITACs, ITACs 1-13 each may select a member to represent their ITAC as a non-voting member on each of these three cross-cutting ITACs so that a broad range of industry perspectives is represented. Other trade policy issues, e.g., government procurement, subsidies, etc., may be addressed in ad hoc working groups created by the ITACs.

Each ITAC meets an average of six times a year in Washington, DC. Some ITACS meet more often depending on the work of a particular committee.

Each Committee consists of members with experience relevant to the industry sector for ITACs 1 through 13 or the subject area for ITACs 14 through 16. The members serve in a representative capacity presenting the views and interests of a sponsoring U.S. entity or U.S. organization and the entity's or organization's subsector (if applicable) on trade matters. In selecting members, Commerce and USTR also consider the nominee's ability to carry out the objectives of the Committee, including knowledge and expertise of the industry and of trade matters relevant to the work of the Committee, and ensuring that the Committee is balanced in terms of points of view, demographics, geography, and entity or organization size. Because members serve in a representative capacity, they are, therefore, not Special Government Employees. Members serve at the discretion of the Secretary and the USTR.

Members serve without compensation and are responsible for all expenses incurred to attend the meetings. ITAC members are appointed jointly by the Secretary and the USTR. Each ITAC elects a chairperson from the membership of the ITAC, and that chairperson serves on the Committee of Chairs of the ITACs.

Appointments are made following the re-chartering of each ITAC and periodically throughout the four-year charter term. Appointments expire at the end of the ITACs' charter terms, in this case, in February 2018.

Appointments to all ITACs are made without regard to political affiliation.

Eligibility and Application Process

The following eligibility requirements must be met:

1. The applicant must be a U.S. citizen;

2. The applicant must not be a full-time employee of a U.S. governmental entity;

3. The applicant must not be a federally-registered lobbyist;

4. The applicant must not be registered with the Department of Justice under the Foreign Agents Registration Act;

5. The applicant must be able to obtain and maintain a security clearance; and

6. The applicant must represent either:

a. a U.S. entity that is directly engaged in the import or export of goods or services or that provides services in direct support of the international trading activities of other entities; or

b. a U.S. organization that: Trades internationally; represents members that trade internationally; or, consistent with the needs of a Committee as determined by the Secretary and the USTR, represents members who have a demonstrated interest in international trade.

For eligibility purposes, a “U.S. entity” is a for-profit firm engaged in commercial, industrial, or professional activities that is incorporated in the United States (or an unincorporated U.S. firm with its principal place of business in the United States) that is controlled by U.S. citizens or by other U.S. entities. An entity is not a U.S. entity if 50 percent plus one share of its stock (if a corporation, or a similar ownership interest of an unincorporated entity) is known to be controlled, directly or indirectly, by non-U.S. citizens or non-U.S. entities.

For eligibility purposes, a “U.S. organization” is an organization, including trade associations, labor unions and organizations, and nongovernmental organizations (NGOs), established under the laws of the United States, that is controlled by U.S. citizens, by another U.S. organization (or organizations), or by a U.S. entity (or entities), as determined based on its board of directors (or comparable governing body), membership, and funding sources, as applicable. To qualify as a U.S. organization, more than 50 percent of the board of directors (or comparable governing body) and more than 50 percent of the membership of the organization to be represented must be U.S. citizens, U.S. organizations, or U.S. entities. Additionally, in order for NGOs to qualify as U.S. organizations, at least 50 percent of the NGO's annual revenue must be attributable to nongovernmental U.S. sources.

If a nominee is to represent an entity or organization known to have 10 percent or greater non-U.S. ownership of its shares or equity, non-U.S. board members, non-U.S. membership, or non-U.S. funding sources, as applicable, the nominee must certify in its statement affirming its eligibility that this non-U.S. interest does not constitute control and will not adversely affect his or her ability to serve as a trade advisor to the United States.

Historically, the Secretary and the USTR have appointed a representative of the public health or health care community to each of ITACs 3 and 15, and an environmental representative to each of ITACs 3 and 7. The Secretary and the USTR will continue to consider nominations for representatives of such viewpoints to those ITACs.

In order to be considered for ITAC membership, a nominee should submit:

(1) Name, title, and relevant contact information of the individual requesting consideration;

(2) The ITAC for which the individual is applying for appointment;

(3) A sponsor letter on the entity's or organization's letterhead containing a brief description of why the applicant should be considered for membership on the ITAC;

(4) The applicant's personal resume demonstrating knowledge of international trade issues;

(5) An affirmative statement that the applicant meets all ITAC eligibility requirements;

(6) An affirmative statement that the applicant is not a federally registered lobbyist, and that the applicant understands that if appointed, the applicant will not be allowed to continue to serve as an ITAC member if the applicant becomes a federally registered lobbyist; and

(7) Information regarding the sponsoring entity, including the control of the entity or organization to be represented and the entity's or organization's size and ownership, product or service line, and trade activities.

Submit applications to Ingrid V. Mitchem, Director, Industry Trade Advisory Center, U.S. Department of Commerce, 14th and Constitution Avenue NW., Room 4043, Washington, DC 20230.

Additional requirements exist for nominations of consultants and legal advisors. The specific requirements will vary depending on the nature of the entity or organization and interests to be represented. Interested consultants and legal advisors should contact the Industry Trade Advisory Center or consult the International Trade Administration Web site at: www.trade.gov/itac for additional information on the submission requirements.

Applicants that meet the eligibility criteria will be considered for membership based on the following criteria: Ability to represent the sponsoring U.S. entity's or U.S. organization's and the entity's or organization's subsector's (if applicable) interests on trade matters; ability to carry out the objectives of the particular ITAC (including knowledge and expertise of the industry and of trade matters relevant to the work of the ITAC); and ensuring that the ITAC is balanced in terms of points of view, demographics, geography, and entity or organization size.

This notice is issued pursuant to the Federal Advisory Committee Act (5 U.S.C., app. 2), 19 U.S.C. 2155, and 41 CFR part 102-3 relating to advisory committees.

Dated: February 12, 2014.
Elizabeth Emanuel,
Deputy Director, Office Advisory Committees.

[FR Doc. 2014-03493 Filed 2-21-14; 8:45 am]

BILLING CODE 3510-DR-P